DEPARTMENT OF ENERGY

Federal Energy Regulatory Commission

Combined Notice of Filings #1

Take notice that the Commission received the following electric corporate filings:

Docket Numbers: EC23-119-000.

Applicants: Sojitz Corporation of America, AL Blueway Holdings, LLC.

Description: Supplement to August 11, 2023, Application for Authorization Under Section 203 of the Federal Power Act of Sojitz Corporation of America, et al.

Filed Date: 10/13/23.

Accession Number: 20231013-5206.

Comment Date: 5 p.m. ET 10/23/23.

Docket Numbers: EC24-6-000.

Applicants: Plains End, LLC, Plains End II, LLC, Rathdrum Power, LLC.

Description: Joint Application for Authorization Under Section 203 of the Federal Power Act of Plains End, LLC, et al.

Filed Date: 10/13/23.

Accession Number: 20231013-5209.

Comment Date: 5 p.m. ET 11/3/23.

Take notice that the Commission received the following exempt wholesale generator filings:

Docket Numbers: EG24-7-000.

Applicants: Salt Creek Township Solar, LLC.

Description: Salt Creek Township Solar, LLC submits Notice of Self-Certification of Exempt Wholesale Generator Status.

Filed Date: 10/16/23.

Accession Number: 20231016-5061.

Comment Date: 5 p.m. ET 11/6/23.

Docket Numbers: EG24-8-000.

Applicants: BCD 2024 Fund 1 Lessee, LLC.

Description: BCD 2024 Fund 1 Lessee, LLC submits Notice of Self-Certification of Exempt Wholesale Generator Status.

Filed Date: 10/16/23.

Accession Number: 20231016-5065.

Comment Date: 5 p.m. ET 11/6/23.

Docket Numbers: EG24-9-000.

Applicants: South Cheyenne Solar, LLC.

Description: South Cheyenne Solar, LLC submits Notice of Self-Certification of Exempt Wholesale Generator Status.

Filed Date: 10/16/23.

Accession Number: 20231016-5139.

Comment Date: 5 p.m. ET 11/6/23.

Take notice that the Commission received the following Complaints and Compliance filings in EL Dockets:

Docket Numbers: EL24-3-000.

Applicants: Missouri River Energy Services v. Southwest Power Pool, Inc.

Description: Complaint of Missouri River Energy Services v. Southwest Power Pool, Inc.

Filed Date: 10/13/23.

Accession Number: 20231013-5205.

Comment Date: 5 p.m. ET 11/2/23.

Take notice that the Commission received the following electric rate filings:

Docket Numbers: ER20-714-005.

Applicants: Whitetail Solar 1, LLC.

Description: Refund Report: Refund Report.

Filed Date: 10/16/23.

Accession Number: 20231016-5068.

Comment Date: 5 p.m. ET 11/6/23.

Docket Numbers: ER20-1851-006.

Applicants: Whitetail Solar 3, LLC.

Description: Refund Report: Refund Report Under Docket ER20-1851 to be effective N/A.

Filed Date: 10/16/23.

Accession Number: 20231016-5073.

Comment Date: 5 p.m. ET 11/6/23.

Docket Numbers: ER21-936-003.

Applicants: Whitetail Solar 2, LLC.

Description: Refund Report: Refund Report Under Docket ER21-936 to be effective N/A.

Filed Date: 10/16/23.

Accession Number: 20231016-5070.

Comment Date: 5 p.m. ET 11/6/23.

Docket Numbers: ER21-1633-003.

Applicants: Elk Hill Solar 2, LLC.

Description: Refund Report: Refund Report Under Docket ER21-1633 to be effective N/A.

Filed Date: 10/16/23.

Accession Number: 20231016-5074.

Comment Date: 5 p.m. ET 11/6/23.

Docket Numbers: ER23-2760-001.

Applicants: Omnis Pleasants, LLC.

Description: Notice of Change in Status of Omnis Pleasants, LLC.

Filed Date: 10/13/23.

Accession Number: 20231013-5208.

Comment Date: 5 p.m. ET 11/3/23.

Docket Numbers: ER24-100-000.

Applicants: Adams Solar LLC.

Description: Baseline eTariff Filing: Adams Solar LLC—Petition for Blanket MBR Authorization with Waivers to be effective 12/1/2023.

Filed Date: 10/13/23.

Accession Number: 20231013-5175.

Comment Date: 5 p.m. ET 11/3/23.

Docket Numbers: ER24-101-000.

Applicants: Waverly Solar, LLC.

Description: Baseline eTariff Filing: Waverly Solar, LLC—Petition for Blanket MBR Authorization with Waivers to be effective 11/2/2023.

Filed Date: 10/13/23.

Accession Number: 20231013-5177.

Comment Date: 5 p.m. ET 11/3/23.

Docket Numbers: ER24-102-000.

Applicants: Caden Energix Endless Caverns LLC.

Description: Baseline eTariff Filing: CE Endless Caverns LLC—Petition for Blanket MBR Authorization with Waivers to be effective 12/1/2023.

Filed Date: 10/13/23.

Accession Number: 20231013-5180.

Comment Date: 5 p.m. ET 11/3/23.

Docket Numbers: ER24-103-000.

Applicants: Duke Energy Florida, LLC.

Description: § 205(d) Rate Filing: DEF-SECI SA 143 Amended and Restated NITSA to be effective 10/1/2023.

Filed Date: 10/13/23.

Accession Number: 20231013-5182.

Comment Date: 5 p.m. ET 11/3/23.

Docket Numbers: ER24-104-000.

Applicants: Golden Spread Electric Cooperative, Inc.

Description: § 205(d) Rate Filing: WPC Amendments M1-3 and AECC Depr to be effective 12/15/2023.

Filed Date: 10/16/23.

Accession Number: 20231016-5020.

Comment Date: 5 p.m. ET 11/6/23.

Docket Numbers: ER24-105-000.

Applicants: Deseret Generation & Transmission Co-operative, Inc.

Description: § 205(d) Rate Filing: 2024 Rate Change Filing to be effective 1/1/2024.

Filed Date: 10/16/23.

Accession Number: 20231016-5027.

Comment Date: 5 p.m. ET 11/6/23.

Docket Numbers: ER24-106-000.

Applicants: Metropolitan Edison Company, PJM Interconnection, L.L.C.

Description: § 205(d) Rate Filing: Metropolitan Edison Company submits tariff filing per 35.13(a)(2)(iii: Met-Ed Amends 10 ECSAs (5790 5791 5918 5921 5927 5930 6042 6052 6136 6146) to be effective 12/31/9998.

Filed Date: 10/16/23.

Accession Number: 20231016-5081.

Comment Date: 5 p.m. ET 11/6/23.

Docket Numbers: ER24-107-000.

Applicants: Midcontinent Independent System Operator, Inc., Ameren Transmission Company of Illinois.

Description: § 205(d) Rate Filing: Midcontinent Independent System Operator, Inc. submits tariff filing per 35.13(a)(2)(iii): 2023-10-16_SA 4174 ATXI-WVPA TIA to be effective 12/15/2023.

Filed Date: 10/16/23.

Accession Number: 20231016-5088.

Comment Date: 5 p.m. ET 11/6/23.

Docket Numbers: ER24-108-000.

Applicants: PacifiCorp.

Description: § 205(d) Rate Filing: WAPA Telecommunications Sharing Contract to be effective 12/16/2023.

Filed Date: 10/16/23.

Accession Number: 20231016-5097.

Comment Date: 5 p.m. ET 11/6/23.

Docket Numbers: ER24-109-000.

Applicants: Caden Energix Axton LLC.

Description: Baseline eTariff Filing: Caden Energix Axton LLC—Petition for Blanket MBR Authorization with Waivers to be effective 11/2/2023.

Filed Date: 10/16/23.

Accession Number: 20231016-5102.

Comment Date: 5 p.m. ET 11/6/23.

Docket Numbers: ER24-110-000.

Applicants: Alabama Power Company, Georgia Power Company, Mississippi Power Company.

Description: § 205(d) Rate Filing: Alabama Power Company submits tariff filing per 35.13(a)(2)(iii: Satilla Source Energy LGIA Filing to be effective 10/1/2023.

Filed Date: 10/16/23.

Accession Number: 20231016-5106.

Comment Date: 5 p.m. ET 11/6/23.

Docket Numbers: ER24-111-000.

Applicants: Southern Power Company.

Description: Initial rate filing: Old Hayneville Solar Affected System Agreement Filing to be effective 9/28/2023.

Filed Date: 10/16/23.

Accession Number: 20231016-5107.

Comment Date: 5 p.m. ET 11/6/23.

Docket Numbers: ER24-112-000.

Applicants: Midcontinent Independent System Operator, Inc.

Description: § 205(d) Rate Filing: 2023-10-16_Tariff Clean-Up Filing to be effective 12/16/2023.

Filed Date: 10/16/23.

Accession Number: 20231016-5123.

Comment Date: 5 p.m. ET 11/6/23.

Docket Numbers: ER24-113-000.

Applicants: Salt Creek Township Solar, LLC.

Description: Baseline eTariff Filing: Salt Creek Township Solar, LLC MBR Tariff to be effective 12/16/2023.

Filed Date: 10/16/23.

Accession Number: 20231016-5124.

Comment Date: 5 p.m. ET 11/6/23.

Docket Numbers: ER24-114-000.

Applicants: BCD 2024 Fund 1 Lessee, LLC.

Description: Baseline eTariff Filing: BCD 2024 Fund 1 Lessee, LLC MBR Tariff to be effective 12/16/2023.

Filed Date: 10/16/23.

Accession Number: 20231016-5126.

Comment Date: 5 p.m. ET 11/6/23.

Docket Numbers: ER24-115-000.

Applicants: ISO New England Inc.

Description: Compliance filing: Req. to Defer Eff. Date of Binary Storage Facility DARD Regulation to be effective N/A.

Filed Date: 10/16/23.

Accession Number: 20231016-5128.

Comment Date: 5 p.m. ET 11/6/23.

Docket Numbers: ER24-116-000.

Applicants: Rhythm Ops, LLC.

Description: Baseline eTariff Filing: Rhythm Ops LLC MBR Application Filing to be effective 12/16/2023.

Filed Date: 10/16/23.

Accession Number: 20231016-5132.

Comment Date: 5 p.m. ET 11/6/23.

Docket Numbers: ER24-117-000.

Applicants: PJM Interconnection, L.L.C.

Description: § 205(d) Rate Filing: Original ISA, SA No. 7114; Queue No. AF1-130 and Cancellation of SA No. 6327 to be effective 9/14/2023.

Filed Date: 10/16/23.

Accession Number: 20231016-5164.

Comment Date: 5 p.m. ET 11/6/23.

Docket Numbers: ER24-118-000.

Applicants: Citizens Sycamore-Penasquitos Transmission LLC.

Description: § 205(d) Rate Filing: Annual TRBAA Filing for 2023 to be effective 1/1/2024.

Filed Date: 10/16/23.

Accession Number: 20231016-5166.

Comment Date: 5 p.m. ET 11/6/23.

Docket Numbers: ER24-119-000.

Applicants: Citizens Sunrise Transmission LLC.

Description: § 205(d) Rate Filing: Annual TRBAA Filing October 2023 to be effective 1/1/2024.

Filed Date: 10/16/23.

Accession Number: 20231016-5171.

Comment Date: 5 p.m. ET 11/6/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: October 16, 2023.
Debbie-Anne A. Reese,
Deputy Secretary.

[FR Doc. 2023-23272 Filed 10-20-23; 8:45 am]

BILLING CODE 6717-01-P